DEPARTMENT OF DEFENSE

Department of the Army; Corps of Engineers

Proposed Levels of Service at Locks and Dams on the J Bennett Johnston Waterway (Red River)

AGENCY: Department of the Army, U.S. Army Corps of Engineers, DoD.

ACTION: Notice.

SUMMARY: This notice replaces the original notice published in the Federal Register on June 6, 2013 (78 FR 34083). The hours of availability for locking at Lindy C. Boggs Lock and Dam, John H. Overton Lock and Dam, Lock and Dam No. 3, Russell B. Long Lock and Dam, and Joe D. Waggonner, JR Lock and Dam on the J Bennett Johnston Waterway will remain at the current schedule of 24 hours per day, 7 days a week, and 365 days per year for a one year period beginning February 1, 2014. Future level of service for each of the five locks and dams will be re-assessed following this one year period.

DATES: Proposed implementation date is February 1, 2014.

SUPPLEMENTARY INFORMATION: The legal authority for the regulation governing the use, administration, and navigation of the Red River and Locks is Section 4 of the River and Harbor Act of August 18, 1894 (28 Stat. 362), as amended, which is codified at 33 U.S.C. 1. This statute requires the Secretary of the Army to “prescribe such regulations for the use, administration, and navigation of the navigable waters of the United States” as the Secretary determines may be required by public necessity. Reference 33 CFR Part 207.249, Ouachita and Black Rivers, Ark. and La., Mile 0.0 to Mile 338.0 (Camden, Ark.) above the mouth of the Black River; the Red River, La., Mile 6.7 (Junction of Red, Atchafalaya and Old Rivers) to Mile 276.0 (Shreveport, La.); use, administration, and navigation.

Brenda S. Bowen,
Army Federal Register Liaison Officer.

[FR Doc. 2013-30073 Filed 12-17-13; 8:45 a.m.]

BILLING CODE 3720-58-P